DEPARTMENT OF TRANSPORTATION

Federal Highway Administration

[Docket No. FHWA 2022-0024]

Agency Information Collection Activities: Notice of Request for New Information Collection

AGENCY: Federal Highway Administration (FHWA), DOT.

ACTION: Notice and request for comments.

SUMMARY: The FHWA invites public comments about our intention to request the Office of Management and Budget's (OMB) approval to submit one information collection, which is summarized below under SUPPLEMENTARY INFORMATION. We published a Federal Register Notice with a 60-day public comment period on this information collection on June 17, 2022. We are required to publish this notice in the Federal Register by the Paperwork Reduction Act of 1995.

DATES: Please submit comments by October 26, 2022.

ADDRESSES: You may submit comments within 30 days to the Office of Information and Regulatory Affairs, Office of Management and Budget, 725 17th Street NW, Washington, DC 20503, Attention DOT Desk Officer. You are asked to comment on any aspect of this information collection. All comments should include the Docket number FHWA-2022-0024.

SUPPLEMENTARY INFORMATION:

Title: Transportation Pooled Fund Excellence Award.

OMB Control Number: (if applicable).

Summary:

Respondents: Any participant in the Transportation Pooled Fund (TPF) program can submit a nomination of a TPF study for the TPF Excellence Award, including staff from the 50 States, the District of Columbia, and Puerto Rico.

Background: FHWA is partnering with the American Association of State Highway and Transportation Officials (AASHTO) Research Advisory Committee (RAC) to further promote research, innovation, and excellence through a new TPF Program Excellence Award.

For more than 45 years, the FHWA's TPF Program has enabled public and private entities to collaboratively conduct cutting-edge transportation research. Through the TPF Program, participants are able to pool funds and expertise to develop innovative solutions at a lower cost while extending the reach and impact of their research.

The TPF Excellence Award will recognize outstanding TPF studies that have made significant advancements in national research efforts in the areas of safety, economic growth, equity, and/or transformative climate solutions. The future award will highlight the importance of meaningful collaboration and partnership in transportation research. Administered through a partnership between FHWA and the AASHTO RAC, the biennial TPF Excellence Award will recognize one FHWA-led TPF study and one State department of transportation (DOT)-led study. Nominations would be received between February 1 and May 1 every 2 yr. Nomination forms would be sent to FHWA Division Offices and State DOTs to solicit nominees.

Award: Any participant in the TPF program can nominate a TPF study that is completed and has posted a final report by June 30 of the year submitted. The nominator is responsible for completing the nomination form that summarizes the outstanding accomplishments of the entry. FHWA will use the collected information to evaluate, showcase, and enhance the public's knowledge of research and innovation conducted through these TPF projects. Nominations will be reviewed by an independent panel of judges from various backgrounds. The awards will be given every 2 yr. The winners will be presented awards at the completion of the process.

Frequency: The information will be collected biennially.

Estimated Average Burden per Response: 5 h per respondent per application.

Estimated Total Annual Burden Hours: It is expected that the respondents will complete approximately 20 applications for an estimated total of 100 annual burden hours.

Public Comments Invited: You are asked to comment on any aspect of this information collection, including: (1) whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

FOR FURTHER INFORMATION CONTACT: Patricia Sergeson, 202-493-3166, Department of Transportation, Federal Highway Administration, Office of Corporate Research, Technology and Innovation Management, Turner-Fairbank Highway Research Center, 6300 Georgetown Pike, McLean, VA 22101. Office hours are from 8 a.m. to 5:30 p.m., Monday through Friday, except Federal holidays.

Public Comments Invited: You are asked to comment on any aspect of these information collections, including: (1) Whether the proposed collections are necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of these information collections.

Authority: The Paperwork Reduction Act of 1995; 44 U.S.C. Chapter 35, as amended; and 49 CFR 1.48.

Issued On: September 21, 2022.
Michael Howell,
Information Collection Officer.

[FR Doc. 2022-20772 Filed 9-23-22; 8:45 am]

BILLING CODE P